DEPARTMENT OF TRANSPORTATION

Federal Railroad Administration

[Docket No. FRA-2000-7257; Notice No. 36]

Railroad Safety Advisory Committee; Notice of Meeting

AGENCY: Federal Railroad Administration (FRA), Department of Transportation (DOT).

ACTION: Notice of the Railroad Safety Advisory Committee (RSAC) meeting.

SUMMARY: FRA announces the next meeting of the RSAC, a Federal Advisory Committee that develops railroad safety regulations through a consensus process. The RSAC briefing topics may include a State of Safety Report; recent safety advisories; the Rail Integrity Task Force; implementation of the final rule on Performance Standards for Processor-Based Signal and Train Control Systems; and an update on other regulatory activity. Status reports will be given on the Roadway Worker Working Group, and other active working groups. The Event Recorder Working Group will report recommendations for a final rule, which the Committee will be asked to vote on by mail ballot following the meeting. The Committee will be asked to vote on (1) the Passenger Safety Working Group—Emergency Preparedness recommendations for a proposed amendments to passenger safety regulations and (2) the Cab Working Conditions—Occupational Noise Exposure recommendations for final rule. The Committee may be asked to adopt a task on revision of FRA rules governing railroad operating rules and practices.

DATES: The meeting of the RSAC is scheduled to commence at 9:30 a.m., and conclude at 4 p.m., on Wednesday, May 18, 2005.

ADDRESSES: The meeting of the RSAC will be held at the Washington Plaza, 10 Thomas Circle, NW., Washington, DC 20005, (202) 842-1300. The meeting is open to the public on a first-come, first-serve basis and is accessible to individuals with disabilities. Sign and oral interpretation can be made available if requested 10 calendar days before the meeting.

FOR FURTHER INFORMATION CONTACT: Inga Toye, RSAC Coordinator, FRA, 1120 Vermont Avenue, NW., Stop 25, Washington, DC 20590, (202) 493-6305 or Grady Cothen, Deputy Associate Administrator for Safety Standards and Program Development, FRA, 1120 Vermont Avenue, NW., Mailstop 25, Washington, DC 20590, (202) 493-6302.

SUPPLEMENTARY INFORMATION: Pursuant to Section 10(a)(2) of the Federal Advisory Committee Act (Pub. L. 92-463), FRA is giving notice of a meeting of the RSAC. The meeting is scheduled to begin at 9:30 a.m., and conclude at 4 p.m., on Wednesday, May 18, 2005. The meeting of the RSAC will be held at the Washington Plaza, 10 Thomas Circle, NW., Washington, DC 20005, (202) 842-1300.

RSAC was established to provide advice and recommendations to the FRA on railroad safety matters. The Committee consists of 48 individual voting representatives and 5 associate representatives drawn from among 30 organizations representing various rail industry perspectives, 2 associate representatives from the agencies with railroad safety regulatory responsibility in Canada and Mexico and other diverse groups. Staffs of the National Transportation Safety Board and the Federal Transit Administration also participate in an advisory capacity.

See the RSAC Web site for details on pending tasks at: http://rsac.fra.dot.gov/. Please refer to the notice published in the Federal Register on March 11, 1996, (61 FR 9740) for more information about the RSAC.

Issued in Washington, DC on April 19, 2005.
Grady C. Cothen, Jr.,
Deputy Associate Administrator for Safety Standards and Program Development.

[FR Doc. 05-8134 Filed 4-22-05; 8:45 am]

BILLING CODE 4910-06-P